DEPARTMENT OF COMMERCE

International Trade Administration

[A-357-812]

Notice of Amended Final Determination of Sales at Less Than Fair Value; Honey From Argentina

AGENCY: Import Administration, International Trade Administration, Department of Commerce.

ACTION: Notice of amended Final Determination of Sales at Less Than Fair Value.

EFFECTIVE DATE: November 21, 2001.

FOR FURTHER INFORMATION CONTACT: Melissa Blackledge, Charles Rast, or Donna Kinsella, Antidumping and Countervailing Duty Enforcement Group III, Import Administration, International Trade Administration, U.S. Department of Commerce, 14th Street and Constitution Avenue, NW., Washington, DC 20230, at (202) 482-3518, (202) 482-1324, or (202) 482-0194, respectively.

Applicable Statute and Regulations: Unless otherwise indicated, all citations to the statute are references to the provisions effective January 1, 1995, the effective date of the amendments made to the Tariff Act of 1930 (the Tariff Act) by the Uruguay Round Agreements Act. In addition, unless otherwise indicated, all citations to the Department of Commerce's (the Department's) regulations refer to the regulations codified at 19 CFR part 351 (2001).

Amendment to the Final Determination

On September 26, 2001, the Department determined that honey from Argentina is being, or is likely to be, sold in the United States at less than fair value (LTFV), as provided in section 735(a) of the Tariff Act. See Notice of Final Determination of Sales at Less Than Fair Value: Honey From Argentina, 66 FR 50611 (October 4, 2001) (Final Determination). On October 9, 2001, respondent Asociacion Cooperativas Argentinas (ACA) timely filed an allegation that the Department had made several ministerial errors in its final determination. ACA requested that we correct the errors and publish a notice of amended final determination in the Federal Register, pursuant to 19 CFR 351.224(e). In addition, on October 15, 2001, petitioners filed comments in rebuttal of ACA's alleged errors.

ACA's submission alleges the following errors:

• The Department mistakenly omitted in its calculation of ACA's G&A expenses total invoiced economic activity, which should have been used as the G&A denominator instead of ACA's cost of goods sold;

• The Department inadvertently failed to include in its G&A expense ratio denominator the costs associated with services provided by ACA, which are part of its cost of sales;

• The Department failed to include other income earned by ACA's administrative departments (“Organos de Direccion y Asesoramiento”, “Organos de Ejecucion General”, and “Adminstracion Descentralizada”) in the calculation of the numerator used in the G&A expense ratio;

• The Department inadvertently included income taxes in the calculation of the numerator used to derive the G&A expense ratio; and

• Finally, the Department inadvertently erred in calculating an interest expense ratio based on gross rather than net financing costs because the Department failed to deduct interest revenue from the financing costs.

See Letter, Wilmer, Cutler & Pickering, October 9, 2001 passim.

In their rebuttal submission, petitioners claim all errors alleged by the respondent are not ministerial errors. Regarding alleged errors in the calculation of the G&A expense ratio, petitioners assert the Department, according to normal practice, calculated the G&A expense ratio by dividing the company-wide G&A expenses by the company-wide total cost of goods sold per respondent's audited financial statement. Petitioners also contend the costs of services provided by ACA were most likely the costs associated with inter-company transactions omitted from the financial statement. Petitioners further contend there is no evidence on the record that the income items identified by the respondent were earned solely by the departments incurring G&A expenses, and no evidence that the expenses associated with the income items were not included in another part of the financial statement. Regarding interest income, petitioners claim there is no evidence that the amount of interest income ACA proposes should be included as interest income was indeed earned from short-term investments of working capital. See Letter, Collier Shannon Scott, October 15, 2001.

The Department's regulations define a ministerial error as one involving “addition, subtraction, or other arithmetic function, clerical error resulting from inaccurate copying, duplication or the like, and any other similar type of unintentional error which the Secretary considers ministerial.” See 19 CFR 351.224(f).

After reviewing ACA's allegations and petitioners rebuttal we have determined, in accordance with 19 CFR 351.224, that the Final Determination includes two ministerial errors. We agree with ACA that the unintentional omission of other income from the G&A expense ratio and the inadvertent inclusion of income taxes in the G&A expense ratio constitute ministerial errors. See 19 CFR 351.224(e); see also Memorandum For Richard Weible; “Allegations of Ministerial Errors; Final Determination in the Investigation of Honey from Argentina” (Ministerial Errors Memorandum), dated October 26, 2001, a public version of which is on file in room B-099 of the main Commerce building, and the Final Determination, 66 FR at 50408.

We do not agree with ACA's assertions that (1) using ACA's cost of goods sold as the G&A denominator was a ministerial error; (2) excluding from the G&A expense ratio denominator the costs associated with services provided by ACA as costs of sales was a ministerial error; and (3) calculating an interest expense ratio based on gross rather than net financing costs was a ministerial error. For a detailed description of each of these allegations and, where applicable, our resultant corrections, see the Ministerial Errors Memorandum.

In accordance with 19 CFR 351.224(e), we are amending the final determination of the antidumping duty investigation of honey from Argentina. The revised weighted-average dumping margins are in the “Amended Final Determination” section, below.

Scope of the Investigation

For purposes of these investigations, the products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to these investigations is currently classifiable under subheadings 0409.00.00, 1702.90, and 2106.90.99 of the Harmonized Tariff Schedule of the United States (“HTSUS”). Although the HTSUS subheadings are provided for convenience and U.S. Customs Service (“U.S. Customs”) purposes, the Department's written description of the merchandise under investigation is dispositive.

Amended Final Determination

We are amending the final determination of the antidumping duty investigation of Honey from Argentina to reflect correction of the above-cited ministerial errors. The revised final weighted-average dumping margins are as follows:

Manufacturer/exporter | Weighted-average margin (percent)
Asociacion Cooperativas Argentinas (ACA) | 37.44
All Others | 35.76

Suspension of Liquidation

In accordance with section 735(c)(1)(B) of the Tariff Act, we are directing the United States Customs Service (Customs) to continue suspending liquidation on all imports of the subject merchandise from Argentina. Customs shall require a cash deposit or the posting of a bond equal to the weighted-average amount by which normal value exceeds the export price as indicated in the chart above. These suspension-of-liquidation instructions will remain in effect until further notice.

ITC Notification

In accordance with section 735(d) of the Tariff Act, we have notified the International Trade Commission of our amended final determination. This determination is issued and published in accordance with section 735(d) and 777(i)(1) of the Tariff Act of 1930, as amended.

Dated: November 9, 2001.
Faryar Shirzad,
Assistant Secretary for Import Administration.

[FR Doc. 01-29145 Filed 11-20-01; 8:45 am]

BILLING CODE 3510-DS-P